DEPARTMENT OF DEFENSE

Department of the Navy

Notice of Availability of Government-Owned Inventions; Available for Licensing

AGENCY: Department of the Navy, DOD.

ACTION: Notice.

SUMMARY: The invention listed below is assigned to the United States Government as represented by the Secretary of the Navy and is available for licensing by the Department of the Navy. U.S. Patent Application Number 12/460,172 filed on July 9, 2009, Navy Case Number PAX 30 entitled “Human Behavioral Simulator for Cognitive Decision-Making.”

ADDRESSES: Requests for data and inventor interviews should be directed to Mrs. Asuncion L. Simmonds, Naval Air Warfare Center Training Systems Division, Code 4.6T, 12350 Research Parkway, Orlando, FL 32826-3275 or e-mail asuncion.simmonds@navy.mil.

DATES: Request for data, samples, and inventor interviews should be made prior to October 24, 2009.

FOR FUTHER INFORMATION CONTACT: Mrs. Asuncion L. Simmonds, Naval Air Warfare Center Training Systems Division, Code 4.6T, 12350 Research Parkway, Orlando, FL. 32826-3275, 407-380-4699 or e-mail asuncion.simmonds@navy.mil.

SUPPLEMENTARY INFORMATION: The U.S. Navy intends to move expeditiously to license these inventions. All licensing application packages and commercialization plans must be returned to Commanding Officer, Naval Air Warfare Center Training Systems Division, Attn: Asuncion Simmonds, Code 4.6T, 12350 Research Parkway, Orlando, FL 32826-3275, or e-mail asuncion.simmonds@navy.mil.

The Navy, in its decisions concerning the granting of licenses, will give special consideration to existing licensees, small business firms, and consortia involving small business firms. The Navy intends to ensure that its licensed inventions are broadly commercialized throughout the United States.

PCT application may be filed for the patent as noted above. The Navy intends that licensees interested in a license in territories outside of the United States will assume foreign prosecution and pay the cost of such prosecution.

Authority: 35 U.S.C. 207, 37 CFR Part 404.

Dated: September 4, 2009.
T.M. Cruz,
Lieutenant Commander, Judge Advocate General's Corps, U.S. Navy, Alternate Federal Register Liaison Officer.

[FR Doc. E9-21990 Filed 9-11-09; 8:45 am]

BILLING CODE 3810-FF-P